DEPARTMENT OF TRANSPORTATION

Federal Aviation Administration

14 CFR Part 39

[Docket No. FAA-2008-0561; Directorate Identifier 2007-NM-223-AD]

RIN 2120-AA64

Airworthiness Directives; The Boeing Company Airplanes

AGENCY: Federal Aviation Administration (FAA), DOT.

ACTION: Supplemental notice of proposed rulemaking (NPRM); reopening of comment period.

SUMMARY: We are revising an earlier proposed airworthiness directive (AD) for certain The Boeing Company Model 757-200 and -200PF series airplanes; and Model 767-200 and -300 series airplanes. The NPRM proposed to require doing an inspection to determine the part number and serial number of the hub assembly of the ram air turbine (RAT), and replacing the hub assembly of the RAT with a new, serviceable, or reworked and re-identified hub assembly if necessary. The NPRM was prompted by reports indicating that the counterweights in some hub assemblies of the RATs could be under strength and fracture when the RAT is rotating. This action revises the NPRM by adding airplanes to the applicability; adding an additional part number and serial number inspection to determine if certain RAT hub assemblies are installed; and, for affected RAT hub assemblies, doing an inspection for missing and fractured balance washer screws, and replacement if necessary to address an additional defect identified within the RAT hub assembly. We are proposing this supplemental notice of proposed rulemaking (SNPRM) to prevent an inoperative RAT, which, following a dual engine shutdown in flight, will cause loss of all hydraulic power to the primary flight controls, resulting in subsequent loss of control of the airplane. Since these actions impose an additional burden over that proposed in the NPRM, we are reopening the comment period to allow the public the chance to comment on these proposed changes.

DATES: We must receive comments on this SNPRM by June 9, 2014.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For Boeing service information identified in this proposed AD, contact Boeing Commercial Airplanes, Attention: Data & Services Management, P.O. Box 3707, MC 2H-65, Seattle, Washington 98124-2207; telephone 206-544-5000, extension 1; fax 206-766-5680; email me.boecom@boeing.com; Internet https://www.myboeingfleet.com. For Hamilton Sundstrand service information identified in this proposed AD, contact Hamilton Sundstrand, Technical Publications, Mail Stop 302-9, 4747 Harrison Avenue, P.O. Box 7002, Rockford, IL 61125-7002; phone: 860-654-3575; fax: 860-998-4564; email: tech.solutions@hs.utc.com; Internet: http://www.hamiltonsundstrand.com.

You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2014-0561; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Marie Hogestad, Aerospace Engineer, Systems and Equipment Branch, ANM-130S, FAA, Seattle Aircraft Certification Office, 1601 Lind Avenue SW., Renton, WA 98057-3356; phone: 425-917-6418; fax: 425-917-6590; marie.hogestad@faa.gov.

SUPPLEMENTARY INFORMATION:

Comments Invited

We invite you to send any written relevant data, views, or arguments about this proposed AD. Send your comments to an address listed under the ADDRESSES section. Include “Docket No. FAA-2008-0561; Directorate Identifier 2007-NM-223-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We issued an NPRM to amend 14 CFR part 39 to include an AD that would apply to certain The Boeing Company Model 757-200 and -200PF series airplanes; and Model 767-200 and -300 series airplanes. The NPRM published in the Federal Register on May 20, 2008 (73 FR 29087). The NPRM proposed to require doing an inspection to determine the part number and serial number of the hub assembly of the RAT, and replacing the hub assembly of the RAT with a new, serviceable, or reworked and re-identified hub assembly if necessary. The NPRM was issued because the counterweights in some hub assemblies of the RATs could be under strength and fracture when the RAT is rotating.

Actions Since the NPRM (73 FR 29087, May 20, 2008) Was Issued

Since we issued the NPRM (73 FR 29087, May 20, 2008), we have reviewed Boeing Alert Service Bulletin 757-29A0066, Revision 1, dated March 8, 2010 (for Model 757 airplanes); and Boeing Alert Service Bulletin 767-29A0110, Revision 1, dated March 8, 2010 (for Model 767 airplanes). We referred to Boeing Alert Service Bulletin 757-29A0066, dated January 2, 2007 (for Model 757-200 and -200PF series airplanes); and Boeing Alert Service Bulletin 767-29A0110, dated January 2, 2007 (for Model 767-200 and -300 series airplanes); as the appropriate sources of service information for accomplishing the actions specified in the NPRM. Revision 1 of this service information revises the effectivity to include The Boeing Company Model 757-200, -200PF, -200CB, and -300 series airplanes; and Model 767-200, -300, -300F, and -400ER series airplanes.

We have also reviewed Boeing Special Attention Service Bulletin 757-29-0069, dated June 24, 2010 (for Model 757 airplanes); and Boeing Special Attention Service Bulletin 767-29-0112, dated June 24, 2010 (for Model 767 airplanes); which describe procedures for an inspection to determine the part number and serial number on the hub assembly of the RAT and replacement of the RAT or RAT hub assembly.

We have also reviewed Hamilton Sundstrand Service Bulletin 730814-29-15, dated February 10, 2010 (for Model 757 airplanes); and Hamilton Sundstrand Service Bulletin 729548-29-18, dated February 10, 2010 (for Model 767 airplanes). This service information describes procedures for certain parts identified in Boeing Special Attention Service Bulletin 757-29-0069, dated June 24, 2010 (for Model 757 airplanes); and Boeing Special Attention Service Bulletin, 767-29-0112, dated June 24, 2010 (for Model 767 airplanes). This service information also describes procedures for doing a general visual inspection of the 12 balance washer screws installed around the perimeter of the rotor assembly for missing washers and fractured screws; and either the replacement of the RAT or RAT hub assembly if any balance washer is missing or any fractured screw is found, or replacement of all balance screws if no missing balance washers and no fractured screws are found.

This SNPRM was prompted by reports of two different material defects that have been identified on the RATs installed on Model 757 and Model 767 airplanes. The first material defect associated with counterweights was the basis of the NPRM. The second material defect associated with the balance washer screws is new to this SNPRM. Rather than have two separate AD actions associated with the RATs installed on the Model 757 and Model 767 airplanes, we have elected to consolidate rulemaking to address both material defects via this SNPRM.

We have determined that the actions in this service information are necessary to address the identified unsafe condition.

Comments

We gave the public the opportunity to comment on the NPRM (73 FR 29087, May 20, 2008). The following presents the comments received on the NPRM and the FAA's response to each comment.

Requests To Revise the Applicability in the NPRM (73 FR 29087, May 20, 2008)

Northwest Airlines, Inc. (NWA) and American Airlines (AAL) requested that the applicablitiy in the NPRM (73 FR 29087, May 20, 2008) be revised. NWA stated that affected parts might have migrated from the “delivered on” airplane to other airplanes, and requested that the inspection be revised to inspect any airplane the affected part could be installed on.

We agree with the commenters' request. We have revised the applicability of this SNPRM to include all airplanes on which the affected RAT hub assemblies could be installed. We have revised the “Applicability” section, paragraph (c) of this SNPRM, accordingly.

Requests To Perform a Maintenance Record Check in Lieu of an Inspection

Boeing requested that affected airlines be required to check their maintenance records to locate and inspect suspect hub assemblies. Boeing stated that suspect hub assemblies may have been removed from one airplane and then installed on another airplane not listed in the Effectivity of Boeing Alert Service Bulletin 757-29A0066 (for Model 757-200 and -200PF series airplanes) or Boeing Alert Service Bulletin 767-29A0110 (for Model 767-200 and -300 series airplanes), both dated January 2, 2007.

Airlines for America (A4A), on behalf of its member AAL, requested that, due to the interchangeability of parts between the Model 757 and 767 fleets, the NPRM (73 FR 29087, May 20, 2008) include a check of the RAT hub assembly part number and serial number for the entire affected fleet regardless of the effectivity currently listed in the service information.

We agree that parts may have been rotated onto airplanes not listed in Boeing Alert Service Bulletin 757-29A0066 (for Model 757-200 and -200PF series airplanes) or Boeing Alert Service Bulletin 767-29A0110 (for Model 767-200 and -300 series airplanes), both dated January 2, 2007, and, therefore, may be installed on airplanes that were not included in the applicability of the NPRM (73 FR 29087, May 20, 2008). We have revised the applicability of this SNPRM to include all Model 757 and 767 airplanes. Because this SNPRM includes all airplanes that could have a defective RAT hub assembly installed, it is not necessary to require operators to check maintenance records.

Request To Mandate Only Those Actions That Address the Unsafe Condition

NWA requested that the NPRM (73 FR 29087, May 20, 2008) only mandate those actions that are required to address the unsafe condition, and not those actions contained in Boeing Alert Service Bulletin 757-29A0066 (for Model 757-200 and -200PF series airplanes) and Boeing Alert Service Bulletin 767-29A0110 (for Model 767-200 and -300 series airplanes), both dated January 2, 2007, that are not pertinent to the safety objective.

NWA stated that the NPRM (73 FR 29087, May 20, 2008) mandated the inspection and replacement in accordance with the Accomplishment Instructions of Boeing Alert Service Bulletin 757-29A0066 (for Model 757-200 and -200PF series airplanes) and Boeing Alert Service Bulletin 767-29A0110 (for Model 767-200 and -300 series airplanes), both dated January 2, 2007. NWA stated that these instructions contain work steps that are not pertinent to correcting the unsafe condition, and indicated that, if some of these procedures are not followed exactly, it could result in a non-compliance with the AD even though the unsafe condition was corrected. NWA stated that mandating only those actions that are required to address the unsafe condition will minimize the quantity of alternative method of compliances (AMOCs) that might be necessary to approve the variations of procedures among operators.

We agree to add a clarification in paragraphs (g)(2) and (h)(2)(i) of this SNPRM, which states that where the service information specifies to contact Hamilton Sundstrand for a replacement unit, this SNPRM does not require that action. Also, we have added a clarification in paragraphs (g)(3) and (h)(2)(ii) of this SNPRM, which states that, where the service information instructs operators to return all RATs or RAT hub assemblies to Hamilton Sundstrand for rework and test, operators may return the RAT or RAT hub assembly to Hamilton Sundstrand or to an FAA-approved repair facility that has the capability to disassemble, repair, balance, and test the RAT or RAT hub assembly.

We agree with the concept of minimizing AD requirements when appropriate. The FAA worked in conjunction with industry, under the Airworthiness Directives Implementation Aviation Rulemaking Committee (ARC), to enhance the AD system. One enhancement is a new process for annotating which steps in the service information are “required for compliance” (RC) with an AD. Differentiating these steps from other tasks in the service information is expected to improve an owner's/operator's understanding of AD requirements and help provide consistent judgment in AD compliance.

In response to the AD Implementation ARC, the FAA released AC 20-176, dated December 19, 2011

(http://rgl.avs.faa.gov/Regulatory_and_Guidance_Library/rgAdvisoryCircular.nsf/0/a78cc91a47b192278625796b0075f419/$FILE/AC%2020-176.pdf); and Order 8110.117, dated September 12, 2012

(http://rgl.avs.faa.gov/Regulatory_and_Guidance_Library/rgOrders.nsf/0/984bb9eb07cdd86986257a7f0070744c/$FILE/Order%208110.117.pdf), which include the concept of RC. The FAA has begun implementing this concept in ADs when we receive service information containing RC steps. While some design approval holders have implemented the RC concept, the implementation is voluntary. The FAA does not intend to develop or revise AD requirements to incorporate the RC concept if it is not included in the service information.

Contrary to NWA's statement that ADs should mandate only those actions that are required to address the unsafe condition, ADs generally contain requirements that are reasonably related to addressing the unsafe condition, as determined by the FAA and the design approval holder that developed the service bulletin. Typically, operators' maintenance programs were not developed in recognition of the unsafe condition that is being addressed by an AD. Whenever we issue an AD, those programs had failed to prevent the unsafe condition in the first place. Therefore, many provisions of ADs address aspects of accomplishing the required maintenance that are necessary to prevent operators from inadvertently aggravating the unsafe condition or introducing new unsafe conditions.

For many years, the Air Transport Association (now Airlines for America, A4A) has sponsored the “Lead Airline” program through which individual airlines are provided an opportunity to prototype manufacturers' draft service instructions before they are finalized. One objective of this activity is to minimize the procedures included in the instructions that are considered unnecessary. Therefore, when the FAA receives a manufacturer's service bulletin, we recognize that the procedures specified have been determined to be necessary by both the manufacturer and affected operators. As in this case, the instructions provided in service bulletins referenced in ADs are reasonably related to addressing the unsafe condition.

As always, if NWA or any other operator prefers to address the unsafe condition by means other than those specified in the referenced service information, they may request approval for an alternative method of compliance and, if approved, may use it instead of the procedures specified in the service information.

Request To Revise the Costs of Compliance

AAL requested that the costs of compliance in the NPRM (73 FR 29087, May 20, 2008) be revised. AAL stated that it finds the cost estimate insufficient and that it is not representative of the actual labor costs that might be incurred by the operators. AAL also stated that the NPRM only includes the labor cost associated with inspecting airplanes on which the affected RAT hub assemblies were delivered and not the entire fleet. AAL stated that the cost only includes the 1-hour inspection and not the labor cost to replace the RAT hub assembly.

We agree with AAL's request. We have determined that the cost estimate provided in this SNPRM should include the labor costs for completing the inspection on the entire affected fleet, and the on-condition costs for those operators required to replace the RAT hub assembly. We have revised the “Costs of Compliance” section in this SNPRM accordingly.

Request To Revise Paragraph (e) of the NPRM (73 FR 29087, May 20, 2008)

AAL requested that paragraph (e) of the NPRM (73 FR 29087, May 20, 2008) be revised. AAL proposed that the paragraph be reworded to state, “. . . unless the actions have already been done per the appropriate Service Bulletin referenced in paragraph (c).” AAL stated that accomplishment of the applicable service information addresses the safety concern and operators should be given credit for accomplishing the service information.

We disagree with AAL's request to revise paragraph (f) of this SNPRM (referred to as paragraph (e) of the NPRM (73 FR 29087, May 20, 2008)). Any actions required by this SNPRM, which are accomplished before the effective date of the AD, are acceptable for compliance since paragraph (f) of this SNPRM states, “Comply with this AD within the compliance times specified, unless already done.” Actions must be done in accordance with the appropriate service information. Otherwise, an operator would need to request an AMOC in accordance with the procedures specified in paragraph (l)(1) of this SNPRM. We have not changed this SNPRM in this regard.

Request To Delay Replacement of the RAT Hub Assembly in Paragraph (f) of the NPRM (73 FR 29087, May 20, 2008)

AAL requested that paragraph (f) of the NPRM (73 FR 29087, May 20, 2008), referred to as paragraph (g)(1) of this SNPRM, be revised to delay replacement of the RAT hub assembly. AAL suggested including the following statement for clarity, “In cases where the RAT hub assembly serial number is on the recall list and there is no replacement RAT hub assembly available, put the airplane back to a serviceable condition. Then replace the RAT hub assembly within 24 months after the compliance date.”

AAL stated that the service information authorizes operators to continue operating the airplane until a replacement hub is available. AAL stated that the NPRM (73 FR 29087, May 20, 2008) is not explicit about operating the airplane with a suspect RAT hub assembly. AAL also stated that the NPRM can be interpreted as replacing the RAT hub assembly when identified, or at a later date when a RAT hub assembly is available.

We disagree with AAL's request to revise paragraph (g)(1) of this SNPRM (referred to as paragraph (f) of the NPRM (73 FR 29087, May 20, 2008)) to allow operators to continue operating an airplane with a suspect RAT hub assembly until a later date when a RAT hub assembly is available. Paragraph (f) of the NPRM (73 FR 29087, May 20, 2008, specifies a compliance time of “within 24 months after the effective date of this AD.” We have further limited the compliance time in paragraph (g)(1) of this SNPRM to include “prior to the next RAT backdrive test,” i.e., prior to the next RAT backdrive test or within 24 months after the effective date of this AD, whichever occurs first. . . .” The “prior to the next RAT backdrive test” requirement was added due to the balance washer screw defect presented in Boeing Special Attention Service Bulletin 757-29-0069, dated June 24, 2010; and Boeing Special Attention Service Bulletin, 767-29-0112, dated June 24, 2010. We have determined that this compliance time is necessary because loss of a balance washer during periodic ground testing of the RAT could cause injury to maintenance personnel.

In developing an appropriate compliance time for this action, we considered the urgency associated with the subject unsafe condition, the availability of required parts, and the practical aspect of accomplishing the required replacement within a period of time that corresponds to the normal scheduled maintenance for most affected operators. However, under the provisions of paragraph (l)(1) of this SNPRM, we will consider requests for approval of an extension of the compliance time if sufficient data is submitted to substantiate that the new compliance time would provide an acceptable level of safety. We have not changed this SNPRM in this regard.

Request To Clarify Paragraph (f) of the NPRM (73 FR 29087, May 20, 2008)

AAL requested that paragraph (f) of the NPRM (73 FR 29087, May 20, 2008) be updated to state, “If the part number and serial number on the hub assembly of the RAT are listed in paragraphs (i)(1)(i) and (i)(1)(ii) of the AD, and are not reworked and re-identified, within 24 months after the effective date of this AD, replace the hub assembly of the RAT with a new, serviceable, or reworked and re-identified hub assembly in accordance with the accomplishment instructions of the service bulletin.” AAL stated that the service information does not change the serial numbers when the modification is accomplished. AAL stated that the service information adds the symbol “29-12” to a new identification plate when the modification is accomplished, and that neither the service information nor the NPRM check for a reworked and re-identified hub during the inspection. AAL stated that, therefore, an airplane inspected in accordance with the NPRM with a reworked and re-identified RAT hub assembly installed would not be compliant with the AD.

We agree with AAL's request. This SNPRM does not propose to require changing the serial number of the rat hub assembly when it is assembled. If any part has already been re-identified, as required by paragraph (g)(1) of this SNPRM, then the inspection alone will not find it because the inspection looks specifically for a part number and serial number specified in paragraphs (g)(1)(i) and (g)(1)(ii) of this SNPRM, and it does not look for re-identified part numbers. We have revised paragraph (g)(1) of this SNPRM (referred to as paragraph (f) of the NPRM (73 FR 29087, May 20, 2008)) accordingly.

Request To Add a Note in the NPRM (73 FR 29087, May 20, 2008) To Explain the Difference in Part Numbers

AAL requested that a note be added to the NPRM (73 FR 29087, May 20, 2008) explaining the difference in part numbers. AAL stated that part number (P/N) 733785/A listed in Hamilton Sundstrand Service Bulletin 730814-29-12, dated November 30, 2005, is incorrect. The NPRM included the correct P/N 733785A in table 2 (designated as paragraphs (i)(1)(i) and (i)(1)(ii) of this SNPRM). AAL stated that operators will be using the Hamilton Sundstrand service bulletins for the inspection and rework. AAL stated that the incorrect part number could cause confusion when identifying a suspect RAT hub assembly.

We disagree with AAL's request to add a note to this AD. While we agree that Hamilton Sundstrand Service Bulletin 730814-29-12, dated November 30, 2005, specifies the incorrect part number, the actions proposed in this SNPRM take precedence over Hamilton Sundstrand Service Bulletin 730814-29-12, dated November 30, 2005. This SNPRM would require operators to inspect for the part numbers and serial numbers listed in paragraphs (g)(1)(i) and (g)(1)(ii) of this SNPRM for this reason. We have not made any changes to this SNPRM in this regard.

Request To Replace RAT Hub Assemblies With Unidentified Plates

AAL requested that paragraph (f) of the NPRM (73 FR 29087, May 20, 2008) (referred to as paragraph (g)(1) of this SNPRM) be updated to include the following statement, “In cases where the RAT hub assembly is missing the data plate, replace the RAT hub assembly within 24 months after the compliance date.”

We agree with AAL's request to replace RAT hub assemblies with unidentified plates. Defective RAT hub assemblies are identified by part number and serial number, and can be installed on any Model 757 or Model 767 airplane. Without identification, there is no way to guarantee the RAT hub assembly is not defective. We have revised paragraph (g)(1) of this SNPRM (referred to as paragraph (f) of the NPRM (73 FR 29087, May 20, 2008)) to require replacement of the RAT hub assembly if the part number or serial number on the hub assembly of the RAT is missing. However, as stated previously, the compliance time specified in paragraph (g)(1) of this SNPRM is “Prior to the next RAT backdrive test or within 24 months after the effective date of this AD, whichever occurs first.”

Additional Changes Made to This SNPRM

We have added the heading and wording of paragraph (k) of this SNPRM to provide credit for previous accomplishment of the actions required by paragraph (g) of this SNPRM, if those actions are done before the effective date of this AD.

Table 1 of the NPRM (73 FR 29087, May 20, 2008) has been removed from this SNPRM as a result of the change to the proposed Applicability of this SNPRM. Paragraphs (g)(1)(i), (g)(1)(ii), (i)(2)(i), and (i)(2)(ii) of this SNPRM have been added. Table 2 of the NPRM has been redesignated as paragraphs (i)(1)(i) and (i)(1)(ii) of this SNPRM.

Screw Replacement Information

Operators should note that, if a screw fractures during any screw replacement specified in this SNPRM and the weight is still available, the balance weight can be installed with the replacement screw. Screws should only be replaced one at a time to prevent any potential for a removed balance washer to be installed in a different location.

FAA's Determination

We are proposing this SNPRM because we evaluated all the relevant information and determined the unsafe condition described previously is likely to exist or develop in other products of these same type designs. Certain changes described above expand the scope of the NPRM (73 FR 29087, May 20, 2008). As a result, we have determined that it is necessary to reopen the comment period to provide additional opportunity for the public to comment on this SNPRM.

Proposed Requirements of the SNPRM

This SNPRM would require accomplishing the actions specified in the service information described previously, except as discussed under “Differences Between the SNPRM and the Service Information.”

Differences Between the SNPRM and the Service Information

We have revised the compliance time for the inspection in paragraph (g) of this SNPRM (referred to as paragraph (f) of the NPRM (73 FR 29087, May 20, 2008)) as specified in Boeing Alert Service Bulletin 757-29A0066, Revision 1, dated March 8, 2010 (for Model 757 airplanes); and Boeing Alert Service Bulletin 767-29A0110, Revision 1, dated March 8, 2010 (for Model 767 airplanes); to “prior to the next RAT backdrive test or within 24 months after the effective date of this AD, whichever occurs first.” The proposed “prior to the next RAT backdrive test” requirement was added due to the balance washer screw defect presented in Boeing Special Attention Service Bulletin 757-29-0069 (for Model 757 airplanes) and Boeing Special Attention Service Bulletin 767-29-0112 (for Model 767 airplanes), both dated June 24, 2010. We have determined that this compliance time is necessary because loss of a balance washer during periodic ground testing of the RAT could cause injury to maintenance personnel. We have coordinated this difference with Boeing.

Although the effectivity in Boeing Special Attention Service Bulletin 767-29-0112, dated June 24, 2010, includes only airplanes having line numbers (L/Ns) 1 through 985 inclusive; and Boeing Alert Service Bulletin 767-29A0110, Revision 1, dated March 8, 2010, includes only airplanes having L/Ns 1 through 976 inclusive; this SNPRM would apply to all line numbers in the Boeing Model 767 fleet, since the RAT hub assemblies can be installed on any Model 767 airplane. We have coordinated this difference with Boeing.

Where Boeing Alert Service Bulletin 757-29A0066, Revision 1, dated March 8, 2010 (for Model 757 airplanes); and Boeing Alert Service Bulletin 767-29A0110, Revision 1, dated March 8, 2010 (for Model 767 airplanes); specify to contact Hamilton Sundstrand for a new or replacement unit, this SNPRM would not require that action. Operators may do the replacement using a new or serviceable RAT or RAT hub assembly, or using a reworked and re-identified RAT or RAT hub assembly. We have coordinated this difference with Boeing.

Where Boeing Alert Service Bulletin 757-29A0066, Revision 1, dated March 8, 2010 (for Model 757 airplanes); or Boeing Alert Service Bulletin 767-29A0110, Revision 1, dated March 8, 2010 (for Model 767 airplanes); specifies to return all RAT hub assemblies to Hamilton Sundstrand for rework and test, operators may return the RAT or RAT hub assembly to Hamilton Sundstrand or to a FAA-approved repair facility that has the capability to disassemble, repair, balance, and test the RAT or RAT hub assembly. We have coordinated this difference with Boeing.

Although Boeing Alert Service Bulletin 757-29A0066, Revision 1, dated March 8, 2010 (for Model 757 airplanes); and Boeing Alert Service Bulletin 767-29A0110, Revision 1, dated March 8, 2010 (for Model 767 airplanes); specify replacing the RAT hub assembly, this proposed SNPRM would allow replacing either the RAT or the RAT hub assembly. We have coordinated this difference with Boeing.

Where Boeing Special Attention Service Bulletin 757-29-0069, dated June 24, 2010 (for Model 757 airplanes); and Boeing Special Attention Service Bulletin 767-29-0112, dated June 24, 2010 (for Model 767 airplanes); specify to contact Hamilton Sundstrand for a replacement unit, this SNPRM would not require that action. We have coordinated this difference with Boeing.

Where Boeing Special Attention Service Bulletin 757-29-0069, dated June 24, 2010 (for Model 757 airplanes); and Boeing Special Attention Service Bulletin 767-29-0112, dated June 24, 2010 (for Model 767 airplanes); instruct operators to return all RAT or RAT hub assemblies to Hamilton Sundstrand for rework and test, operators may return the RAT or RAT hub assembly to Hamilton Sundstrand or to an FAA-approved repair facility that has the capability to disassemble, repair, balance, and test the RAT or RAT hub assembly. We have coordinated this difference with Boeing.

Costs of Compliance

We estimate that this proposed AD affects 1,132 airplanes of U.S. registry.

We estimate the following costs to comply with this proposed AD:

Estimated Costs
Action | Labor cost | Parts cost | Cost per product | Cost on U.S. operators
Inspection | 1 work-hour × $85 per hour = $85 | $0 | $85 | $96,220

We estimate the following costs to do any necessary replacements that would be required based on the results of the proposed inspection. We have no way of determining the number of aircraft that might need these replacements:

On-Condition Costs
Action | Labor cost | Parts cost | Cost per product
Replacement of balance washer screws | 1 work-hour × $85 per hour = $85 | $0 | $85
Removal and installation of RAT assembly | 5 work-hours × $85 per hour = 425 | 0 | 425
Removal and installation of RAT hub assembly | 2 work-hours × $85 per hour = 170 | 0 | 170

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. Amend § 39.13 by adding the following new airworthiness directive (AD):

The Boeing Company: Docket No. FAA-2008-0561; Directorate Identifier 2007-NM-223-AD.

(a) Comments Due Date

We must receive comments by June 9, 2014.

(b) Affected ADs

None.

(c) Applicability

This AD applies to all The Boeing Company Model 757-200, -200PF, -200CB, and -300 series airplanes; and Model 767-200, -300, -300F, and -400ER series airplanes; certificated in any category.

(d) Subject

Air Transport Association (ATA) of America Code 29, Hydraulic Power.

(e) Unsafe Condition

This AD was prompted by reports indicating that the counterweights in some hub assemblies of the ram air turbine (RAT) could be under strength and fracture when the RAT is rotating, and that some RAT hub assemblies were delivered with balance washer retention screws that were incorrectly heated treated, and therefore, susceptible to fracture and cracking. We are issuing this AD to prevent an inoperative RAT, which, following a dual engine shutdown in flight, will cause loss of all hydraulic power to the primary flight controls, resulting in subsequent loss of control of the airplane.

(f) Compliance

Comply with this AD within the compliance times specified, unless already done.

(g) Inspection and Replacement of Parts With a Counterweight Defect

Prior to the next RAT backdrive test or within 24 months after the effective date of this AD, whichever occurs first: Do an inspection to determine the part number and serial number on the hub assembly of the RAT, in accordance with the Accomplishment Instructions of Boeing Alert Service Bulletin 757-29A0066, Revision 1, dated March 8, 2010 (for Model 757 airplanes); or Boeing Alert Service Bulletin 767-29A0110, Revision 1, dated March 8, 2010 (for Model 767 airplanes).

(1) If the part number or serial number on the hub assembly of the RAT is missing, or if the part number and serial number are specified in paragraphs (g)(1)(i) and (g)(1)(ii) of this AD, and the hub assembly has not been reworked and re-identified in accordance with Hamilton Sundstrand Service Bulletin 730814-29-12, dated November 30, 2005 (for Model 757 airplanes); or Hamilton Sundstrand Service Bulletin 729548-29-15, dated November 30, 2005 (for Model 767 airplanes): Prior to the next RAT backdrive test or within 24 months after the effective date of this AD, whichever occurs first, replace the RAT or RAT hub assembly with a new, serviceable, or reworked and re-identified RAT or RAT hub assembly, in accordance with the Accomplishment Instructions of Boeing Alert Service Bulletin 757-29A0066, Revision 1, dated March 8, 2010 (for Model 757 airplanes); or Boeing Alert Service Bulletin 767-29A0110, Revision 1, dated March 8, 2010 (for Model 767 airplanes); except as provided by paragraphs (g)(2) and (g)(3) of this AD.

(i) Model 757-200, -200PF, -200CB, and -300 series airplanes having part number (P/N) 733785A or 733785B, and serial number (S/N) 0410 through 0413 inclusive, 0415, 0417 through 0430 inclusive, 0432, or 0434.

(ii) Model 767-200, -300, -300F, and -400ER series airplanes having P/N 734350A, 734350B, 734350C, or 734350D, and S/N 0666, 0673 through 0684 inclusive, 0686, 0687, or 0689.

(2) Where Boeing Alert Service Bulletin 757-29A0066, Revision 1, dated March 8, 2010 (for Model 757 airplanes); or Boeing Alert Service Bulletin 767-29A0110, Revision 1, dated March 8, 2010 (for Model 767 airplanes); specify to contact Hamilton Sundstrand for a replacement unit, this AD does not require that action.

(3) Where Boeing Alert Service Bulletin 757-29A0066, Revision 1, dated March 8, 2010 (for Model 757 airplanes); or Boeing Alert Service Bulletin 767-29A0110, Revision 1, dated March 8, 2010 (for Model 767 airplanes); specifies to return all RAT hub assemblies to Hamilton Sundstrand for rework and test, operators may return the RAT or RAT hub assembly to Hamilton Sundstrand or to an FAA-approved repair facility that has the capability to disassemble, repair, balance, and test the RAT or RAT hub assembly.

(h) Inspection and Replacement of Parts With a Balance Washer Screw Defect

Prior to the next RAT backdrive test or within 24 months after the effective date of this AD, whichever occurs first: Do an inspection to determine the part number and serial number on the hub assembly of the RAT, in accordance with the Accomplishment Instructions of Boeing Special Attention Service Bulletin 757-29-0069, dated June 24, 2010 (for Model 757 airplanes); or Boeing Special Attention Service Bulletin 767-29-0112, dated June 24, 2010 (for Model 767 airplanes).

(1) If the part number or serial number on the hub assembly of the RAT is missing or if the part number and serial number is listed in paragraph 1.A., “Effectivity,” of Hamilton Sundstrand Service Bulletin 730814-29-15, dated February 10, 2010 (for Model 757 airplanes); or Hamilton Sundstrand Service Bulletin 729548-29-18, dated February 10, 2010 (for Model 767 airplanes); and the hub assembly has not been reworked and re-identified in accordance with Hamilton Sundstrand Service Bulletin 730814-29-15, dated February 10, 2010 (for Model 757 airplanes), or Hamilton Sundstrand Service Bulletin 729548-29-18, dated February 10, 2010 (for Model 767 airplanes): Prior to the next RAT backdrive test or within 24 months after the effective date of this AD, whichever occurs first, do a general visual inspection of the 12 balance washer screws installed around the perimeter of the rotor assembly for missing washers and fractured screws, in accordance with the Accomplishment Instructions of Hamilton Sundstrand Service Bulletin 730814-29-15, dated February 10, 2010 (for Model 757 airplanes); or Hamilton Sundstrand Service Bulletin 729548-29-18, dated February 10, 2010 (for Model 767 airplanes).

(2) If any balance washer is missing or any fractured screw is found, prior to the next RAT backdrive test or within 24 months after the effective date of this AD, whichever occurs first: Replace the RAT or RAT hub assembly with a new, serviceable, or reworked and re-identified RAT or RAT hub assembly, in accordance with the Accomplishment Instructions of Boeing Special Attention Service Bulletin 757-29-0069, dated June 24, 2010 (for Model 757 airplanes); or Boeing Special Attention Service Bulletin 767-29-0112, dated June 24, 2010 (for Model 767 airplanes); except as provided by paragraphs (h)(2)(i) and (h)(2)(ii) of this AD.

(i) Where Boeing Special Attention Service Bulletin 757-29-0069, dated June 24, 2010 (for Model 757 airplanes); and Boeing Special Attention Service Bulletin 767-29-0112, dated June 24, 2010 (for Model 767 airplanes); specify to contact Hamilton Sundstrand for a replacement unit, this AD does not require that action.

(ii) Where the Boeing Special Attention Service Bulletin 757-29-0069, dated June 24, 2010 (for Model 757 airplanes); and Boeing Special Attention Service Bulletin 767-29-0112, dated June 24, 2010 (for Model 767 airplanes); instruct operators to return all RAT or RAT hub assemblies to Hamilton Sundstrand for rework and test, operators may return the RAT or RAT hub assembly to Hamilton Sundstrand or an FAA-approved repair facility that has the capability to disassemble, repair, balance, and test the RAT or RAT hub assembly.

(3) If there are no missing balance washers and no fractured screws: Prior to the next RAT backdrive test or within 24 months after the effective date of this AD, whichever occurs first: Replace the balance washer screws, one at a time, in accordance with Hamilton Sundstrand Service Bulletin 730814-29-15, dated February 10, 2010 (for Model 757 airplanes); or Hamilton Sundstrand Service Bulletin 729548-29-18, dated February 10, 2010 (for Model 767 airplanes).

(i) Parts Installation Limitations

(1) As of the effective date of this AD, no person may install a RAT hub assembly having any applicable part number and serial number specified in paragraphs (i)(1)(i) and (i)(1)(ii) of this AD, on any airplane, unless it has been reworked and re-identified in accordance with Hamilton Sundstrand Service Bulletin 730814-29-12, dated November 30, 2005 (for Model 757 airplanes); or Hamilton Sundstrand Service Bulletin 729548-29-15, dated November 30, 2005 (for Model 767 airplanes).

(i) Model 757-200, -200PF, -200CB, and -300 series airplanes having P/N 733785A or 733785B, and S/N 0410 through 0413 inclusive, 0415, 0417 through 0430 inclusive, 0432, or 0434.

(ii) Model 767-200, -300, -300F, and -400ER series airplanes having P/N 734350A, 734350B, 734350C, or 734350D, and S/N 0666, 0673 through 0684 inclusive, 0686, 0687, or 0689.

(2) As of the effective date of this AD, no person may install a RAT hub assembly having any applicable part number and serial number specified in paragraph (i)(2)(i) and (i)(2)(ii) of this AD, on any airplane, unless it has been inspected and reworked and re-identified in accordance with Hamilton Sundstrand Service Bulletin 730814-29-15, dated February 10, 2010 (for Model 757 airplanes); or 729548-29-18, dated February 10, 2010 (for Model 767 airplanes).

(i) Model 757-200, -200PF, -200CB, and -300 series airplanes having P/N 733785AB Series, and S/N 0107, 0105, 0121, 0151, 0179, 0204, 0282, 0289, 0296, 0315, 0319, 0337, 0390, 0403, 0412, 0421, 0424, 0426, 0429, 0430, 0439, 0445, 0450, 0477, 0503, 0510, 0512, 0584, 0585, 0591, 0599, 0609, 0617, 0624, 0656, 0673, 0685, 0789, 0822, 0841, 0854, 0911, 0912, 0936, 0957, 0961, 0971, 1061, 1064, 1096, 1101, 1102, 1105, 1113, 1117, 1170, 1172, 1173, X2069.

(ii) Model 767-200, -300, -300F, and -400ER series airplanes having P/N 734350 Series, and S/N 0042, 0074, 0170, 0183, 0207, 0311, 0312, 0324, 0336, 0337, 0347, 0367, 0372, 0379, 0381, 0391, 0427, 0431, 0469, 0495, 0500, 0530, 0531, 0533, 0538, 0539, 0550, 0551, 0575, 0584, 0619, 0626, 0666, 0670, 0676, 0690, 0700, 0701, 0734, 0750, 0800, 0801, 0813, 0835, 0836, 0908, 0923, 0958, 0968, 0980, 1009, 1012, 1019, 1046, 1052, 1054, 1102, 1127, 1167, 1264, 1285, 1300, 1317, 1322, 1362, 1372, 1394, 1398, 1436, 1594, 1633, 1634, 1635, 1636, 1637, 1638, 1639, 1640, 1641, 1642, 1643, 1644, 1645, 1646, 1647, 1648, 1649, 1650, 1651, 1652, X2063.

(3) As of the effective date of this AD, no person may install a balance washer screw having part number MS24667-14, on any airplane unless a records review can positively determine that the screws did not come from Northeast Fasteners, lots 24057 and 30533.

(j) No Information Submission

Although Boeing Alert Service Bulletin 757-29A0066, Revision 1, dated March 8, 2010 (for Model 757 airplanes); and Boeing Alert Service Bulletin 767-29A0110, Revision 1, dated March 8, 2010 (for Model 767 airplanes); specify to submit information to the manufacturer, this AD does not include that requirement.

(k) Credit for Previous Actions

This paragraph provides credit for the actions required by paragraph (g) of this AD, if those actions were performed before the effective date of this AD using the service information specified in paragraph (k)(1) or (k)(2) of this AD, as applicable. These documents are not incorporated by reference in this AD.

(1) Boeing Alert Service Bulletin 757-29A0066, dated January 2, 2007 (for Model 757-200 and -200PF series airplanes).

(2) Boeing Alert Service Bulletin 767-29A0110, dated January 2, 2007 (for Model 767-200 and -300 series airplanes).

(l) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (m)(1) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO, to make those findings. For a repair method to be approved, the repair must meet the certification basis of the airplane and the approval must specifically refer to this AD.

(m) Related Information

(1) For more information about this AD, contact Marie Hogestad, Aerospace Engineer, Systems and Equipment Branch, ANM-130S, FAA, Seattle Aircraft Certification Office, 1601 Lind Avenue SW., Renton, WA 98057-3356; phone: 425-917-6418; fax: 425-917-6590; marie.hogestad@faa.gov.

(2) For Boeing service information identified in this AD, contact Boeing Commercial Airplanes, Attention: Data & Services Management, P.O. Box 3707, MC 2H-65, Seattle, Washington 98124-2207; telephone 206-544-5000, extension 1; fax 206-766-5680; email me.boecom@boeing.com; Internet https://www.myboeingfleet.com. For Hamilton Sundstrand service information identified in this AD, contact Hamilton Sundstrand, Technical Publications, Mail Stop 302-9, 4747 Harrison Avenue, P.O. Box 7002, Rockford, IL 61125-7002; phone: 860-654-3575; fax: 860-998-4564; email: tech.solutions@hs.utc.com; Internet: http://www.hamiltonsundstrand.com. You may view this service information at the FAA, Transport Airplane Directorate, 1601 Lind Avenue SW., Renton, WA. For information on the availability of this material at the FAA, call 425-227-1221.

Issued in Renton, Washington, on April 17, 2014.
Jeffrey E. Duven,
Manager, Transport Airplane Directorate, Aircraft Certification Service.

[FR Doc. 2014-09348 Filed 4-23-14; 8:45 am]

BILLING CODE 4910-13-P